UNITED STATES POSTAL SERVICE BOARD OF GOVERNORS

Sunshine Act Meeting

Date and Time: Tuesday, January 29, 2008, at 11:30 a.m.; and Wednesday, January 30, 2008, at 8:30 a.m. and 10:30 a.m.

Place: Washington, DC, at U.S. Postal Service Headquarters, 475 L'Enfant Plaza, SW., in the Benjamin Franklin Room.

Status: January 29—11:30 a.m.—Closed; January 30—8:30 a.m.—Open; January 30—10:30 a.m.—Closed.

Matters to be Considered: Tuesday, January 29 at 11:30 a.m. (Closed)

1. Product Pricing Update.

2. Financial Update.

3. Strategic Issues.

4. Labor Update.

5. Personnel Matters and Compensation Issues.

6. Governors' Executive Session—Discussion of prior agenda items and Board Governance.

Wednesday, January 30 at 8:30 a.m. (Open)

1. Minutes of the Previous Meeting, December 10-11, 2007.

2. Remarks of the Chairman and Vice Chairman on the Board.

3. Remarks of the Postmaster General and CEO Jack Potter.

4. Committee Reports.

5. Consideration of Board Resolution on Capital Funding.

6. Quarterly Report on Service Performance.

7. Quarterly Report on Financial Performance.

8. Capital Investments.

a. Providence, Rhode Island, Processing & Distribution Center (P&DC) Expansion.

b. West Sacramento, California, P&DC Expansion.

c. Perris, California, Delivery Distribution Center.

9. Tentative Agenda for the March 4, and April 1-2, 2008, meetings in Washington, DC.

10. Election of Chairman and Vice Chairman of the Board of Governors.

Wednesday, January 30 at 10:30 a.m. (Closed)—if needed

1. Continuation of Tuesday's closed session agenda.

Contact Person for more Information: Wendy A. Hocking, Secretary of the Board, U.S. Postal Service, 475 L'Enfant Plaza, SW., Washington, DC 20260-1000. Telephone (202) 268-4800.

Wendy A. Hocking,
Secretary.

[FR Doc. 08-250 Filed 1-17-08; 3:32 pm]

BILLING CODE 7710-12-M